DEPARTMENT OF HEALTH AND HUMAN SERVICES

National Institutes of Health

Government-Owned Inventions; Availability for Licensing

AGENCY: National Institutes of Health, Public Health Service, DHHS.

ACTION: Notice.

SUMMARY: The inventions listed below are owned by agencies of the U.S. Government and are available for licensing in the U.S. in accordance with 35 U.S.C. 207 to achieve expeditious commercialization of results of federally-funded research and development. Foreign patent applications are filed on selected inventions to extend market coverage for companies and may also be available for licensing.

ADDRESSES: Licensing information and copies of the U.S. patent applications listed below may be obtained by contacting Uri Reichman, at the Office of Technology Transfer, National Institutes of Health, 6011 Executive Boulevard, Suite 325, Rockville, Maryland 20852-3804; telephone: 301/496-7736 ext. 240; fax: 301/402-0220; e-mail: ur7A@nih.gov. A signed Confidential Disclosure Agreement will be required to receive copies of the patent applications.

Imaging With Positron-Emitting Taxanes as a Guide to Antitumor Therapy

Jerry M. Collins, Raymond W. Klecker, Lawrence Anderson (FDA)

Serial No. 60/155,061 filed 21 Sep 1999

The present application discloses the use of positron-emitting compounds to label taxane type drugs. This invention also describes methods of synthesizing these taxane type compounds. Further, methods to guide treatment of solid tumors, with labeled taxanes, are also disclosed in the present application. Advantages of using this technology include: (1) Avoidance of exposing patients to toxic drugs that have no potential for benefit; (2) ability to rapidly determine whether a given tumor will be likely to respond to a particular drug; and (3) the ability to monitor the impact of various dosages, schedules, and modulators for delivery, in situ, at the actual tumor under treatment conditions.

Conjugate Vaccine for Neisseria Meningitidis

Xin-Xing Gu (NIDCD) and Chao-Ming Tsai (FDA)

Serial No. 60/148,021 filed 10 Aug 1999

The invention discloses a vaccine which comprises lipooligosaccharide (LOS) isolated from N. meningitidis and conjugated to a carrier protein. The invention also discloses a method of making the acellular vaccine. The method consists of two main steps. In the first step the lipooligosaccharide (LOS), chosen so it does not contain the lacto-N-neotetraose human antigen (LNnT), is detoxified by a novel procedure which uses hydrazine to remove the O-linked fatty acids. In the second step, the detoxified LOS (dLOS) is covalently conjugated to a carrier protein such as Tetanus Toxoid (TT). The dLOS produced in step 1 is 10,000 fold less toxic than the parent LOS. The conjugate vaccine exhibited a high level of immunogenicity as evidenced by the high titer of IgG antibody to native LOS, obtained in mice and rabbits. The rabbit antisera produced by the conjugate vaccine of one N.meningitidis strain (strain 7880, A,L10) exhibited bactericidal activity and cross reactivity with heterologous N.meningitidis strains. A conjugate vaccine made in this method may be multivalent, composed of dLOSs from different strains and/or immunotypes of N. meningitidis and will thus protect against all types of N. meningitidis, including type B.

A portion of this invention was disclosed in a poster by Tsai, Gu and Quakyi at the Fifth Conference of the International Endotoxin Society held in Santa Fe, New Mexico in September 12-15, 1998.

Dated: April 7, 2000.
Jack Spiegel,
Director, Division of Technology Development and Transfer, Office of Technology Transfer, National Institutes of Health.

[FR Doc. 00-9444 Filed 4-14-00; 8:45 am]

BILLING CODE 4140-01-P